DEPARTMENT OF COMMERCE

Bureau of Industry and Security

Agency Information Collection Activities; Submission to the Office of Management and Budget (OMB) for Review and Approval; Comment Request; Objections From the Section 232 National Security Adjustments of Imports of Steel and Aluminum

AGENCY: Bureau of Industry and Security, Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before April 1, 2025.

ADDRESSES: Interested persons are invited to submit comments by email to Nancy Kook, IC Liaison, Bureau of Industry and Security, at Nancy.Kook@bis.doc.gov or to PRAcomments@doc.gov). Please reference OMB Control Number 0694-0138 in the subject line of your comments. Do not submit Confidential Business Information or otherwise sensitive or protected information.

FOR FURTHER INFORMATION CONTACT: Requests for additional information or specific questions related to collection activities should be directed to Nancy Kook, IC Liaison, Bureau of Industry and Security, phone 202-482-2440 or by email at nancy.kook@bis.doc.gov.

SUPPLEMENTARY INFORMATION:

I. Abstract

Section 232 of the Trade Expansion Act of 1962 (19 U.S.C. 1862) authorizes the Secretary of Commerce (“the Secretary”) to conduct comprehensive investigations to determine the effects of imports of any article on the national security of the United States.

On March 8, 2018, President Trump issued Proclamations 9704 and 9705, imposing duties on imports of aluminum and steel, and authorizing the Secretary to grant exclusions from the duties “if the Secretary determines the steel or aluminum article for which the exclusion is requested is not produced in the United States in a sufficient and reasonably available amount or of a satisfactory quality or should be excluded based upon specific national security considerations.” The President further directed that the Secretary issue procedures for requesting such exclusions within ten days of the issuance of these Proclamations.

The purpose of this information collection is to allow for submission of objections to the exclusions requests from the remedies instituted in presidential proclamations adjusting imports of steel into the United States and adjusting imports of aluminum into the United States. The information submitted is evaluated and used by BIS's Office of Strategic Industries and Economic Security (OSIES) to make a recommendation to the Secretary or their designee(s) regarding the favorability of each Exclusion Request, taking into account any national security considerations as well as any received Objections, Rebuttals, and/or Surrebuttals. The Secretary or their designee(s) will also consider information provided by other agencies or senior executive branch officials including recommendations from the Department's International Trade Administration (ITA) based on their review of Exclusion Requests receiving Objections.

II. Method of Collection

Electronic.

III. Data

OMB Control Number: 0694-0138.

Form Number(s): None.

Type of Review: Regular submission, extension of a current information collection.

Affected Public: Business or other for-profit organizations.

Estimated Number of Respondents: 40,288.

Estimated Time per Response: 4 hours.

Estimated Total Annual Burden Hours: 161,152 hours.

Estimated Total Annual Cost to Public: 0.

Respondent's Obligation: Voluntary.

Legal Authority: Section 232 of the Trade Expansion Act of 1962, Presidential Proclamations 9704 and 9705.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-02071 Filed 1-30-25; 8:45 am]

BILLING CODE 3510-33-P